DEPARTMENT OF COMMERCE

Foreign-Trade Zones Board

[Docket 11-2000]

Foreign-Trade Zone 39—Dallas/Fort Worth, TX—Application for Subzone; Zale Corporation (Distribution/Processing of Jewelry and Accessories), Irving, TX

An application has been submitted to the Foreign-Trade Zones Board (the Board) by the Dallas/Fort Worth International Airport Board, grantee of FTZ 39, requesting special-purpose subzone status for the jewelry and accessories warehousing/distribution/processing facilities of Zale Corporation (Zale), located in Irving, TX, some 20 miles northwest of Dallas. The application was submitted pursuant to the provisions of the Foreign-Trade Zones Act, as amended (19 U.S.C. 81a-81u), and the regulations of the Board (15 CFR Part 400). It was formally filed on March 21, 2000.

The Zale facility is located at 901 W. Walnut Hill Lane (430,000 sq. ft. on 15.22 acres). There are 80 employees within the distribution center. The facility is used for storage, inspection, packaging, repair and distribution of a wide variety of jewelry and accessories, watches and giftware. About 30 percent of the products are sourced from abroad. Subzone status is sought for quality inspection/distribution to Zale Canada. One hundred percent of foreign items admitted into the zone will be exported to Canada. Seventy percent of Zale Canada's inventory is NAFTA-qualified. No authority is being sought for activity conducted under FTZ procedures that would result in a change in tariff classification.

Zone procedures would exempt Zale from Customs duty payments on foreign products that are reexported. On any domestic sales, the company would be limited to deferral of duty payments until merchandise is shipped from the plant. The application indicates that the savings from zone procedures would help improve the plant's international competitiveness.

In accordance with the Board's regulations, a member of the FTZ staff has been appointed examiner to investigate the application and report to the Board.

Public comment is invited from interested parties. Submissions (original and 3 copies) shall be addressed to the Board's Executive Secretary at the address below. The closing period for their receipt is May 30, 2000. Rebuttal comments in response to material submitted during the foregoing period may be submitted during the subsequent 15-day period (to June 12, 2000.)

A copy of the application and accompanying exhibits will be available for public inspection at each of the following locations:

U.S. Department of Commerce Export Assistance Center, 2050 N. Stemmons Fwy., Suite 170, P.O. Box 420069, Dallas, Texas 75207

Office of the Executive Secretary, Foreign-Trade Zones Board, Room 4008, U.S. Department of Commerce, 14th & Constitution Avenues, NW, Washington, DC 20230

Dated: March 21, 2000.
Dennis Puccinelli,
Acting Executive Secretary.

[FR Doc. 00-7765 Filed 3-28-00; 8:45 am]

BILLING CODE 3510-DS-P